DEPARTMENT OF ENERGY

Federal Energy Regulatory Commission

[Project No. 3030-019]

Antrim County; Notice of Application Tendered for Filing With the Commission, Soliciting Additional Study Requests, and Establishing Procedural Schedule for Relicensing and a Deadline for Submission of Final Amendments

Take notice that the following hydroelectric application has been filed with the Commission and is available for public inspection.

a. Type of Application: Subsequent license.

b. Project No.: P-3030-019.

c. Date filed: December 21, 2012.

d. Applicant: Antrim County.

e. Name of Project: Elk Rapids Hydroelectric Project

f. Location: On the Elk River in the village of Elk Rapids in Antrim, Grand Traverse, and Kalkaskia counties, Michigan. The project does not affect federal lands.

g. Filed Pursuant to: Federal Power Act 16 USC 791 (a)-825(r).

h. Applicant Contact: William Stockhausen, Elk Rapids Hydroelectric Power, LLC, 218 West Dunlap Street, Northville, MI 48167; or at (248) 349-2833.

i. FERC Contact: Lee Emery at (202) 502-8379 or by email at lee.emery@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: February 19, 2013.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

m. The application is not ready for environmental analysis at this time.

n. The existing Elk Rapids Hydroelectric Project is located on the Elk River in Antrim, Grand Traverse, and Kalkaskia counties, Michigan. The project consists of: (1) 2,560-acre Skegemog Lake; (2) 7,730-acre Elk Lake; (3) a 121-foot-long, 52-foot-high, 26-foot-wide existing powerhouse that spans the main channel of the Elk River, with an operating head of 10.5 feet, (4) four 22-foot-wide bays with a trash rack having a 1¾-inch clear bar spacing; (5) two turbine-generator units for a combined installed capacity of 0.700 megawatt; (6) two turbine gates used to spill excess water; (7) a 14-foot-wide overflow spillway equipped with stoplogs; (8) a 20-foot by 30-foot substation enclosure; (9) a 50-foot-long underground 12.5-kilovolt transmission line to connect the project substation to the local utility distribution lines; and (10) other appurtenant facilities.

The project operates in a run-of-river mode and the water surface elevation is maintained at 590.8 feet Elk Rapids dam gage datum from April 15 through November 1 and at 590.2 feet Elk Rapids dam gage datum from November 1 through April 15. The average annual generation is about 2,422 megawatt-hours.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. With this notice, we are initiating consultation with the Michigan State Historic Preservation Officer (SHPO), as required by section 106 of the National Historic Preservation Act, and the regulations of the Advisory Council on Historic Preservation, 36 CFR 800.4.

q. Procedural schedule and final amendments: The application will be processed according to the following preliminary Hydro Licensing Schedule. Revisions to the schedule will be made as appropriate.

Issue Notice of Acceptance—March 2013

Issue Scoping Document 1 for comments—April 2013

Comments due on Scoping Document 1—June 2013

Issue Scoping Document 2—June 2013

Issue notice of ready for environmental analysis—September 2013

Issue Environmental Assessment (EA)—March 2014

Comments on due on EA—April 2014

Final amendments to the application must be filed with the Commission no later than 30 days from the issuance date of the notice of ready for environmental analysis.

Dated: January 9, 2013.
Kimberly D. Bose,
Secretary.

[FR Doc. 2013-00647 Filed 1-14-13; 8:45 am]

BILLING CODE 6717-01-P